DEPARTMENT OF THE INTERIOR

Bureau of land management

[UTU-010-1232-ET-UT-17; UTU 27914]

Public Land Order No. 7500; Extension of Public Land Order No. 5984; Utah

AGENCY: Bureau of Land Management, Interior.

ACTION: Public land order.

SUMMARY: This order extends Public Land Order No. 5984 for an additional 20-year period. This extension is necessary to continue the protection of the Little Sahara Recreation Area. The lands have been and will remain open to mineral leasing.

EFFECTIVE DATE: September 9, 2001.

FOR FURTHER INFORMATION CONTACT: Field Office Manager, BLM Fillmore Field Office, 35 East 500 North, Fillmore, Utah 84631, 435-743-3100.

SUPPLEMENTARY INFORMATION: By virtue of the authority vested in the Secretary of the Interior by Section 204 of the Federal Land Policy and Management Act of 1976, 43 U.S.C. 1714 (1994), it is ordered as follows:

1. Public Land Order No. 5984, which withdrew public lands in Juab County, Utah, from surface entry and mining, is hereby extended for an additional 20-year period following its date of expiration.

2. This withdrawal will expire 20 years from the effective date of this order, unless, as a result of a review conducted before the expiration date pursuant to Section 204(f) of the Federal Land Policy and Management Act of 1976, 43 U.S.C. 1714(f) (1994), the Secretary determines that the withdrawal shall be extended.

Dated: September 7, 2001.
J. Steven Griles,
Deputy Secretary.

[FR Doc. 01-25639 Filed 10-11-01; 8:45 am]

BILLING CODE 4310-DQ-P